DEPARTMENT OF THE TREASURY

Internal Revenue Service

Proposed Collection; Comment Request for Special Rules and Certificate of Partner-Level Items To Reduce Withholding

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. The IRS is soliciting comments concerning special rules and certificate of partner-level items to reduce withholding.

DATES: Written comments should be received on or before June 10, 2024 to be assured of consideration.

ADDRESSES: Direct all written comments to Andres Garcia, Internal Revenue Service, Room 6526, 1111 Constitution Avenue NW, Washington, DC 20224, or by email to pra.comments@irs.gov. Include OMB control number 1545-1934 or Special Rules and Certificate of Partner-Level Items to Reduce Section 1446 Withholding.

FOR FURTHER INFORMATION CONTACT: Requests for additional information or copies of the regulation or form should be directed to Kerry Dennis at (202) 317-5751, or at Internal Revenue Service, Room 6526, 1111 Constitution Avenue NW, Washington, DC 20224, or through the internet, at Kerry.L.Dennis@irs.gov.

SUPPLEMENTARY INFORMATION:

Title: Special Rules and Certificate of Partner-Level Items to Reduce Section 1446 Withholding.

OMB Number: 1545-1934.

Regulation and Form Number: T.D. 9394 and Form 8404-C.

Abstract: T.D. 9394 contains final regulations regarding when a partnership may consider certain deductions and losses of a foreign partner to reduce or eliminate the partnership's obligation to pay withholding tax under section 1446 on effectively connected taxable income allocable under section 704 to such partner. Form 8804-C is used by a foreign partner that voluntary submit to the partnership if it chooses to provide a certification that could reduce or eliminate the partnership's withholding tax obligation under section 1446 (1446 tax) on the partner's allocable share of effectively connected income (ECTI) from the partnership.

Current Actions: There is no change to the paperwork burden previously approved by OMB.

Type of Review: Extension of a currently approved collection.

Affected Public: Businesses and other for-profit organizations, Individuals or Households, and Not-for-Profit Organizations.

Form 8804-C

Estimated Number of Respondents: 1,000.

Estimated Time per Response: 18.7 hours.

Estimated Total Annual Burden Hours: 18,700 hours.

TD 9394

Estimated Number of Respondents: 1.

Estimated Time per Response: 1 hours.

Estimated Total Annual Burden Hours: 1 hour.

Total Number of Respondents: 1,001.

Total Estimated Annual Burden Hours: 18,701.

The following paragraph applies to all the collections of information covered by this notice.

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: April 3, 2024.
Kerry L. Dennis,
Tax Analyst.

[FR Doc. 2024-07452 Filed 4-8-24; 8:45 am]

BILLING CODE 4830-01-P